DEPARTMENT OF ENERGY

Federal Energy Regulatory Commission

[No. RP03-201-000]

Transcontinental Gas Pipe Line Corporation; Notice of Proposed Changes in FERC Gas Tariff

December 18, 2002.

Take notice that on December 12, 2002 Transcontinental Gas Pipe Line Corporation (Transco) tendered for filing as part of its FERC Gas Tariff, Third Revised Volume No. 1, and Original Volume No. 2, the tariff sheets listed Appendix A to the filing, with a proposed effective date of February 1, 2003.

Transco states that the purpose of the instant filing is to terminate Section 7(c) firm transportation service under Rate Schedules X-319 and X-320 and to convert such services to service provided under Rate Schedule FT pursuant to Transco's blanket transportation certificate and part 284 of the Commission's regulations effective February 1, 2003.

Transco states that the rates applicable to the converted service are the generally applicable reservation and commodity charges under Rate Schedule FT (including fuel) as set forth on tariff sheet numbers 40, 40.01 and 40.02 to Transco's Third Revised Volume No. 1 Tariff.

Transco states that copies of the filing are being mailed to North Jersey Energy Associates, Northeast Energy Associates and interested State Commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's Web site under the “e-Filing” link.

Intervention Date: December 24, 2002.

Linwood A. Watson, Jr.,
Deputy Secretary.

[FR Doc. 02-32488 Filed 12-23-02; 8:45 am]

BILLING CODE 6717-01-P